ENVIRONMENTAL PROTECTION AGENCY

[FRL-7161-3]

Clean Water Act Section 303(d): Final Agency Action on 27 Total Maximum Daily Loads (TMDLs) and Final Agency Action on 6 Determinations That TMDLs Are Not Needed

AGENCY: Environmental Protection Agency (EPA).

ACTION: Notice of availability.

SUMMARY: This notice announces final agency action on 27 TMDLs prepared by EPA Region 6 for waters listed in Louisiana's Mermentau and Vermilion/Teche river basins, under section 303(d) of the Clean Water Act (CWA). This notice also announces final agency action removing 6 waterbody/pollutant combinations from the Louisiana 303(d) list because TMDLs are not needed. EPA evaluated these waters and prepared the 27 TMDLs needed in response to a partial consent decree entered in the lawsuit Sierra Club, et al. v. Clifford et al., No. 96-0527, (E.D. La.). Documents from the administrative record files for the 6 determinations that TMDLs are not needed and for 27 TMDLs, including TMDL calculations and responses to comments may be viewed at www.epa.gov/region6/water/tmdl.htm. The administrative record files may be obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the United States Environmental Protection Agency (EPA), styled Sierra Club, et al. v. Clifford et al., No. 96-0527, (E.D. La.). Among other claims, plaintiffs alleged that EPA failed to establish Louisiana TMDLs in a timely manner.

EPA Takes Final Agency Action on 27 TMDLs

By this notice EPA is taking final agency action on the following 27 TMDLs for waters located within the Mermentau and Vermilion/Teche basins:

Subsegment | Waterbody name | Pollutant
050101 | Bayou Des Cannes—Headwaters to Mermentau River | Pesticides (carbofuran & fipronil).
050701 | Grand Lake | Pesticides (carbofuran).
050702 | Intracoastal Waterway | Pesticides (carbofuran).
050901 | Bays and Gulf Waters to State 3-mile Limit | Pesticides (carbofuran).
060205 | Bayou Teche—Headwaters at Bayou Courtableau to I-10 | Pesticides (carbofuran).
060207 | Bayou des Glaises Diversion Canal | Pesticides (carbofuran).
060301 | Bayou Teche—I-10 to Keystone Locks and Dam | Pesticides (carbofuran).
060401 | Bayou Teche—Keystone Locks and Dam to Charenton Canal | Pesticides (carbofuran).
060701 | Tete Bayou | Pesticides (carbofuran).
060801 | Vermilion River—Headwaters at Bayou Fusilier-Bourbeaux Junction to New Flanders (Ambassador Caffery Bridge at Hwy 3073). | Pesticides (carbofuran).
060802 | Vermilion River—From New Flanders (Ambassador Caffery Bridge) at Hwy 3073 to Intracoastal Waterway. | Pesticides (carbofuran).
060803 | Vermilion River Cutoff | Pesticides (carbofuran).
060901 | Bayou Petite Anse | Pesticides (carbofuran).
060902 | Bayou Carlin (Delcambre Canal)—Lake Peigneur to Bayou Petite Anse (Estuarine). | Pesticides (carbofuran).
060903 | Bayou Tigre | Pesticides (carbofuran).
060904 | Vermilion River B890 Basin New Iberia Southern Drainage Canal | Pesticides (carbofuran).
060906 | Intracoastal Waterway | Pesticides (carbofuran).
060907 | Franklin Canal | Pesticides (carbofuran).
060910 | Boston Canal and Associated Canals (Estuarine) | Pesticides (carbofuran).
060911 | Vermilion-Teche River Basin | Pesticides (carbofuran).
061101 | Bayou Petite Anse | Pesticides (carbofuran).
061102 | Intracoastal Waterway | Pesticides (carbofuran).
050201 | Bayou Plaquemine Brule—headwaters to Bayou Des Cannes | Pesticides (fipronil).
050401 | Mermentau River—origin to Lake Arthur | Pesticides (fipronil).
050501 | Bayou Queue de Tortue—headwaters to Mermentau River | Pesticides (fipronil).
050603 | Bayou Chene—includes Bayou Grand Marais | Pesticides (fipronil).

EPA requested the public to provide EPA with any significant data or information that may impact the 27 TMDLs in 66 FR 47673 (September 13, 2001). The comments received and EPA's response to comments may be found at www.epa.gov/region6/water/tmdl.htm.

Final Agency Action Removing 6 Waterbody/Pollutant Combinations for waters located within the Mermentau and Vermilion/Teche basins from the Louisiana 303(d) List Because TMDLs are not Needed:

Subsegment | Waterbody name | Pollutant
050102 | Bayou Joe Marcel | Ammonia, nutrients, and organic enrichment/low DO.
060906 | Intracoastal Waterway | Nutrients.
061101 | Bayou Petite Anse | Nutrients.
060204 | Bayou Courtableau—origin to | Oil and grease.

EPA requested the public to provide to EPA any significant data or information that may impact the determinations that 6 TMDLs are not needed in 66 FR 52403 (October 15, 2001). No comments were received.

Dated: March 13, 2002
Sam Becker,
Acting Director, Water Quality Protection Division, Region 6.

[FR Doc. 02-6845 Filed 3-20-02; 8:45 am]

BILLING CODE 6560-50-P